NUCLEAR REGULATORY COMMISSION

[NRC-2009-0448]

Notice of Availability of Draft Interim Staff Guidance 25, “Pressure and Helium Leakage Testing of the Confinement Boundary of Spent Fuel Storage Canisters,” and Opportunity To Provide Comments

AGENCY: Nuclear Regulatory Commission.

ACTION: Notice of availability and opportunity to provide comments.

DATES: Comments must be provided by November 27, 2009.

FOR FURTHER INFORMATION CONTACT: Ron Parkhill, Senior Mechanical Engineer, Thermal and Containment Branch, Division of Spent Fuel Storage and Transportation Division, Office of Nuclear Material Safety and Safeguards, U.S. Nuclear Regulatory Commission, Washington, DC 20005-0001. Telephone: (301) 492-3324; fax number: (301) 492-3342; e-mail: ron.parkhill@nrc.gov.

SUPPLEMENTARY INFORMATION:

I. Introduction

The Nuclear Regulatory Commission (NRC) is issuing Draft Interim Staff Guidance 25, “Pressure and Helium Leakage Testing of the Confinement Boundary of Spent Fuel Storage Canisters.” This draft interim staff guidance (ISG) clarifies the agency's position on the shop helium leakage test and ASME (American Society of Mechanical Engineers) Code pressure testing requirements in order to provide reasonable assurance of the confinement of radioactive material for spent fuel storage canisters.

The purpose of this notice is to provide the public with an opportunity to review and to solicit comments on this draft ISG. Comments received will be considered in the final version or subsequent revisions.

II. Opportunity To Provide Comments

Comments and questions on draft ISG-25, should be directed to Ron Parkhill, Thermal and Containment Branch, Division of Spent Fuel Storage and Transportation, Office of Nuclear Materials Safety and Safeguards, U.S. Nuclear Regulatory Commission, Washington, DC 20005-0001 by November 27, 2009. Comments received after this date will be considered if it is practical to do so, but only those comments received on or before the due date can be assured consideration. Comments can also be submitted by telephone, fax, or e-mail to the following: Telephone: (301) 492-3324; fax number: (301) 492-3331; e-mail: Ron.Parkhill@NRC.gov.

III. Further Information

Documents related to this action are available electronically at the NRC's Electronic Reading Room at http://www.nrc.gov/reading-rm/adams.html. From this site, you can access the NRC's Agencywide Document Access and Management System (ADAMS), which provides text and image files of NRC's public documents. The ADAMS accession number for the document related to this notice is [ML090850380]. If you do not have access to ADAMS, or if there are problems in accessing the documents located in ADAMS, contact the NRC Public Document Room (PDR) reference staff at 1-800-397-4209, 301-415-4737, or by e-mail to pdr.resource@nrc.gov.

This document may also be viewed electronically on the public computers located at the NRC's PDR, O-1 F21, One White Flint North, 11555 Rockville Pike, Rockville, MD 20852. The PDR reproduction contractor will copy documents for a fee.

Dated at Rockville, Maryland, this 30th day of September 2009.
For the Nuclear Regulatory Commission.
Michael Waters,
Chief, Thermal and Containment Branch, Division of Spent Fuel Storage and Transportation, Office of Nuclear Materials Safety and Safeguards.

[FR Doc. E9-24559 Filed 10-9-09; 8:45 am]

BILLING CODE 7590-01-P